DEPARTMENT OF EDUCATION

34 CFR Parts 674, 682, 685, and 686

[Docket ID ED-2008-OPE-0001]

RIN 1840-AC93

The Teacher Education Assistance for College and Higher Education (TEACH) Grant Program and Other Federal Student Aid Programs; Correction

AGENCY: Office of Postsecondary Education, Department of Education.

ACTION: Final regulations; correction.

SUMMARY: On June 23, 2008, we published final regulations in the Federal Register to establish regulations for the Teacher Education Assistance for College and Higher Education (TEACH) Grant program. That document inadvertently included several minor technical errors. This document corrects the final regulations.

DATES: Effective July 1, 2008.

FOR FURTHER INFORMATION CONTACT: Michelle Belton, U.S. Department of Education, 1990 K Street, NW., room 8031, Washington, DC 20006-8502. Telephone: (202) 502-7821 or via the Internet at: Michelle.Belton@ed.gov.

If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Corrections

In rule FR Doc. E8-13587 published June 23, 2008 (73 FR 35472), make the following technical corrections:

1. On page 35494, column three, in amendatory instruction 26(A), remove the paragraph reference “(b)(2)(ii)” and, in its place, add the paragraph reference “(b)(4)(i)(B)”.

2. On page 35495, column one, correct amendment 33 to read as follows:

33. Section 682.204 is amended by:

A. Adding paragraph (m).

B. Adding an authority citation to read as follows:

§ 682.204 Maximum loan amounts.

* * * * *

(m) Any TEACH Grants that have been converted to Direct Unsubsidized Loans are not counted against annual or any aggregate loan limits under paragraphs (c), (d), (e), and (f) of this section.

(Authority: 20 U.S.C. 1070g, 1078, 1078-2, 1078-3, 1078-8)

.

3. On page 35495, column two, in amendatory instruction 35(A), remove the paragraph reference “(c)(1)(ii)(B)” and, in its place, add the paragraph reference “(c)(4)(i)(B)”.

4. On page 35495, column two, in amendatory instruction 39(A), remove the paragraph reference “(c)(2)” and, in its place, add the paragraph reference “(d)(1)(ii)”.

5. On page 35495, column three, after amendatory instruction 41, add the heading for Part 686 to read as follows:

PART 686—TEACHER EDUCATION ASSISTANCE FOR COLLEGE AND HIGHER EDUCATION (TEACH) GRANT PROGRAM

Dated: June 26, 2008.
Sara Martinez Tucker,
Under Secretary for Education.

(Catalog of Federal Domestic Assistance Numbers: 84.007 Federal Supplemental Educational Opportunity Grant Program; 84.032 Federal Family Education Loan Program; 84.033 Federal Work Study; 84.038 Federal Perkins Loan Program; 84.063 Federal Pell Grant Program; 84.069 Leveraging Education Assistance Partnerships; 84.268 William D. Ford Federal Direct Loan Program; 84.379 TEACH Grant program)

[FR Doc. E8-14850 Filed 6-27-08; 8:45 am]

BILLING CODE 4000-01-P